DEPARTMENT OF COMMERCE

International Trade Administration

(A-570-506)

Porcelain-on-Steel Cooking Ware From China; Final Results of Antidumping Duty Administrative Review

AGENCY: Import Administration, International Trade Administration, Department of Commerce.

ACTION: Notice of final results of antidumping duty administrative review.

SUMMARY: On January 7, 2000, the Department of Commerce published the preliminary results of administrative review of the antidumping duty order on porcelain-on-steel (“POS”) cooking ware from the People's Republic of China (“PRC”). The merchandise covered by this order is shipments of POS cooking ware, including tea kettles, which do not have self-contained electric heating elements. This review covers one manufacturer/exporter of the subject merchandise, Clover Enamelware Enterprise, Ltd. of China (“Clover”), and its Hong Kong reseller, Lucky Enamelware Factory Ltd. (“Lucky”), collectively referred to as Lucky/Clover. The period of review (“POR”) is December 1, 1997 through November 30, 1998.

Based on our analysis of the comments received, we have made corrections to our calculations. However, these corrections did not change the margin which was calculated in the preliminary determination, which was zero. The final weighted-average dumping margin for the reviewed firm is listed below in the section entitled “Final Results of the Review.”

EFFECTIVE DATE: May 16, 2000.

FOR FURTHER INFORMATION CONTACT: Russell Morris, AD/CVD Enforcement, Office 6, Group II, Import Administration, International Trade Administration, U.S. Department of Commerce, Washington, D.C. 20230; telephone: (202) 482-1775.

SUPPLEMENTARY INFORMATION:

The Applicable Statute

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“the Department's”) regulations are to 19 CFR Part 351 (1998).

Background

On January 7, 2000, the Department published the preliminary results of its administrative review of the antidumping duty order on POS cooking ware from the PRC. See Porcelain-on-Steel Cooking Ware From the People's Republic of China; Preliminary Results of Antidumping Duty Administrative Review, 65 FR 1136 (January 7, 2000). The review covers one manufacturer/exporter of the subject merchandise, Lucky/Clover. The POR is December 1, 1997 through November 30, 1998. We invited parties to comment on our preliminary results of review. Only Lucky/Clover submitted comments. No requests were made for a public hearing. The Department has conducted this administrative review in accordance with section 751 of the Act.

Scope of Review

Imports covered by this review are shipments of POS cooking ware, including tea kettles, which do not have self-contained electric heating elements. All of the foregoing are constructed of steel and are enameled or glazed with vitreous glasses. The merchandise is currently classifiable under the Harmonized Tariff Schedule (“HTS”) item 7323.94.00.

Although the HTS subheading is provided for convenience and U.S. Customs (“Customs”) purposes, our written description of the scope of this proceeding is dispositive.

Analysis of Comments Received

All issues raised in the case brief by the Respondent to this administrative review are addressed in the “Issues and Decision Memorandum” (“Decision Memorandum”) from Holly A. Kuga, Acting Deputy Assistant Secretary, Import Administration, to Troy H. Cribb, Acting Assistant Secretary for Import Administration, dated concurrent with this notice, which is hereby adopted by this notice. A list of the issues which parties have raised and to which we have responded, all of which are in the Decision Memorandum, is attached to this notice as an Appendix. Parties can find a complete discussion of all issues raised in this review and the corresponding recommendations in this public memorandum which is on file in the Central Records Unit (“CRU”) of the Main Commerce Building in Room B-099. In addition, a complete version of the Decision Memorandum can be accessed directly on the Web at www.ita.doc.gov/import_admin/records/frn/. The paper copy and electronic version of the Decision Memorandum are identical in content.

Changes Since the Preliminary Results

Based on our analysis of comments received, we have made certain changes in the margin calculations. We have also corrected certain programming and clerical errors in our preliminary results, where applicable. Any alleged programming or clerical errors with which we do not agree are discussed in the relevant sections of the “Decision Memorandum,” accessible in the CRU and also available at the Web address shown above.

Final Results of Review

We determine that the following percentage weighted-average margins exist for the period December 1, 1997 through November 30, 1998:

Manufacturer/producer/exporter | Margin (percent)
Clover Enamelware Enterprise/Lucky Enamelware Factory | Zero.

The Department shall determine, and Customs shall assess, antidumping duties on all appropriate entries. In accordance with 19 CFR 351.106(c)(2), we will instruct the Customs Service to liquidate without regard to antidumping duties all entries of the subject merchandise during the POR manufactured by Clover and subsequently exported by Lucky.

Cash Deposit Requirements

The following deposit requirements will be effective upon publication of this notice of final results of administrative review for all shipments of POS cooking ware from the PRC entered, or withdrawn from warehouse, for consumption on or after the date of publication, as provided by section 751(a)(1) of the Act: (1) For Clover/Lucky, which has a separate rate, the cash deposit rate will be zero; (2) for any previously reviewed PRC firm and non-PRC exporter with a separate rate, the cash deposit rate will be the company-and product-specific rate established for the most recent period; (3) the cash deposit rate for all other PRC exporters will continue to be 66.65 percent, the PRC-wide rate established in the LTFV investigation; and (4) the cash deposit rate for non-PRC exporters of subject merchandise from the PRC will be the rate applicable to the PRC supplier of that exporter. These requirements, when imposed, shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (“APO”) of their responsibility concerning the return or destruction of proprietary information disclosed under APO in accordance with 19 CFR 351.305 or conversion to judicial protective order is hereby requested. Failure to comply with the regulations and terms of an APO is a violation which is subject to sanction.

We are issuing and publishing this determination and notice in accordance with sections 751(a)(1) and 777(i) of the Act.

Troy H. Cribb,
Acting Assistant Secretary for Import Administration.

APPENDIX—Issues in the Decision Memorandum

Comments

1. Factor Valuation

a. Steel

b. Labor

2. Circumstances-of-Sale Adjustments

a. Indirect Selling Expenses

3. Export Credit Insurance

[FR Doc. 00-12205 Filed 5-15-00; 8:45 am]

BILLING CODE 3510-DS-P